DEPARTMENT OF TRANSPORTATION

Federal Aviation Administration

14 CFR Part 39

[Docket No. FAA-2007-27495; Directorate Identifier 2005-SW-14-AD]

RIN 2120-AA64

Airworthiness Directives; Eurocopter France Model AS350B, BA, B1, B2, B3, C, D, and D1; EC-130B4; and AS355E, F, F1, F2, and N Helicopters

AGENCY: Federal Aviation Administration, DOT.

ACTION: Notice of proposed rulemaking (NPRM).

SUMMARY: This document proposes adopting a new airworthiness directive (AD) for the specified Eurocopter France (ECF) model helicopters. This proposal would require, within the next 30 days, modifying the collective hold-down strap (strap) and thereafter inspecting it at specified intervals to ensure the rubber grommet is resting against the console or replacing the strap with an ECF designed strap that has a torsional spring at the lower end of the strap. This proposal is prompted by reports of two accidents occurring while the pilots were performing an autorotation. The pilots were unable to arrest the descent of the helicopter using collective blade pitch due to the collective stick locking in the down position when the collective was lowered during the maneuver. The actions specified by this proposed AD are intended to prevent inadvertent locking of a collective stick in flight and the flight crew not being aware of the locked condition leading to a subsequent loss of control of the helicopter.

DATES: Comments must be received on or before May 14, 2007.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may examine the comments to this proposed AD in the AD docket on the Internet at http://dms.dot.gov.

FOR FURTHER INFORMATION CONTACT: Vince Massey, Aerospace Engineer, FAA, Seattle Aircraft Certification Office, Systems and Equipment Branch, 1601 Lind Avenue, SW., Renton, Washington 98055-4056, telephone (425) 917-6475, fax (425) 917-6590.

SUPPLEMENTARY INFORMATION:

Comments Invited

We invite you to submit any written data, views, or arguments regarding this proposed AD. Send your comments to the address listed under the caption ADDRESSES. Include the docket number “FAA-2007-27495, Directorate Identifier 2005-SW-14AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

This document proposes adopting a new AD for the specified ECF model helicopters. This proposal would require, within the next 30 days, modifying the strap and thereafter inspecting it at specified intervals to ensure the rubber grommet is resting against the console or replacing the strap with an ECF strap designed with the torsional spring at the lower end of the strap. This proposal is prompted by reports of two accidents occurring while the pilots were performing an autorotation. The pilots were unable to arrest the descent of the helicopter using collective blade pitch due to the collective control locking in the down position when the collective was lowered during the maneuver. The positive locking feature and the structural integrity of the hold-down strap prevent the pilot from overriding the collective stick control lock by simply pulling up on the collective control stick. Before the collective stick can be raised, it must be held in a position where the button on the end of the collective stick is centered in the hole in the hold-down strap and then pushed forward to disengage the hold-down strap from the button on the end of the collective stick. The actions specified by this proposed AD are intended to prevent inadvertent locking of a collective stick in flight and the flight crew not being aware of the locked condition leading to a subsequent loss of control of the helicopter.

This unsafe condition is likely to exist or develop on other helicopters of these same type designs. Therefore, the proposed AD would require you to do the following within the next 30 days:

• Modify the strap by forming the strap as depicted in Figure 1 of this AD. Install the modified strap so that the rubber grommet rests against the console. Thereafter, at intervals not to exceed 100 hours time-in-service, inspect the strap to ensure the rubber grommet is resting against the console.

• An alternative approach for complying with this AD is to replace the affected strap with an ECF designed strap that has a torsional spring at the lower end of the strap.

Replacing the strap with an ECF designed strap that has a torsional spring at the lower end of the strap would constitute terminating action for the requirements of this AD.

We estimate that this proposed AD would affect 475 helicopters of U.S. registry. The proposed actions would take about 10 minutes to inspect a strap, 20 minutes to modify it, and 30 minutes to replace a strap at an average labor rate of $80 per work hour. Required parts would cost about $194.70 per helicopter for the ECF strap designed with the torsional spring at the end of the strap. Based on these figures, we estimate the total cost impact of the AD on U.S. operators would be $111,483 if the ECF strap designed with the torsional spring at the end is installed in the entire fleet.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2007-27495; Directorate Identifier 2005-SW-14-AD.

Applicability

Model AS350B, BA, B1, B2, B3, C, D, and D1; EC-130B4; and AS355E, F, F1, F2, and N helicopters, with a collective hold-down strap (strap), part number (P/N) 350A273107126, installed, certificated in any category.

Compliance

Required as indicated.

To prevent inadvertent locking of a collective stick in the lowered position during flight and the flight crew not being aware of the locked condition leading to a subsequent loss of control of the helicopter, do the following:

(a) Within the next 30 days, unless accomplished previously, modify the strap by forming the strap as depicted in Figure 1 of this AD. Install the modified strap so that the rubber grommet rests against the console. Thereafter, at intervals not to exceed 100 hours time-in-service, inspect the strap to ensure that the rubber grommet is resting against the console.

Note: Vertical adjustment of the strap is described in the applicable Eurocopter France maintenance manual.

BILLING CODE 4910-13-C

(b) An alternative approach for complying with paragraph (a) of this AD this AD is to replace the affected strap with an ECF designed strap kit, P/N 350A27-0350-0071,that has a torsional spring at the lower end of the strap. The following Parts List constitutes the required parts of the ECF strap kit designed with the torsional spring at the lower end of the strap:

Item | Part No. | Quantity
(1) Leaf Assy | 350A27-1426-03 | 1
(2) Spring | 350A27-1423-21 | 1
(3) Leaf Support | 350A27-1421-20 | 1
(4) Cotter Pin | 23310CA015012 | 1
(5) Shear Pin | 22719BC050068L | 1
(6) Screw | 22208CM050010 | 2
(7) Washer | 23111AG050LE | 3
(8) Support | 350A27-1377-01 | 1

(c) Replacing the strap with an ECF designed strap kit as described in paragraph (b) of this AD constitutes terminating action for the requirements of this AD.

(d) To request a different method of compliance or a different compliance time for this AD, follow the procedures in 14 CFR 39.19. Contact the Seattle Aircraft Certification Office, FAA, ATTN: Vince Massey, Aerospace Engineer, FAA, Systems and Equipment Branch, 1601 Lind Avenue SW., Renton, Washington 98057, telephone (425) 917-6475, fax (425) 917-6590, for information about previously approved alternative methods of compliance.

Issued in Fort Worth, Texas, on February 26, 2007.
David A. Downey,
Manager, Rotorcraft Directorate, Aircraft Certification Service.

[FR Doc. 07-1167 Filed 3-12-07; 8:45 am]

BILLING CODE 4910-13-P